DEPARTMENT OF TRANSPORTATION

Federal Aviation Administration

[Docket No. FAA-2006-25755]

Operating Limitations at New York Laguardia Airport; Proposed Amendments

AGENCY: Federal Aviation Administration (FAA), DOT.

ACTION: Proposed Amendments and Request for Comments.

SUMMARY: The Federal Aviation Administration (FAA) has tentatively determined that it is necessary to amend further its December 12, 2006 Order that temporarily caps scheduled operations at New York's LaGuardia Airport (LaGuardia), pending the implementation of a longer-term regulation to manage congestion at the airport. In particular, we now propose to accept from air carriers voluntary reductions in scheduled operations at the airport to a targeted average of 71 hourly scheduled operations for the duration of the Order. This proposed reduction in flight operations at LaGuardia would not affect the number of unscheduled operations at the airport. The FAA is separately extending the Order's expiration until 11:59 p.m., Eastern Time, on October 24, 2009.

DATE: Send your comments on this proposed amendment to the Order on or before January 5, 2009.

ADDRESSES: You may submit comments, identified by docket number FAA-2006-25755, using any of the following methods:

• Federal eRulemaking Portal: Go to http://regulations.gov and follow the online instructions for sending your comments electronically.

• Mail: Send comments by mail to Docket Operations, U.S. Department of Transportation, M-30, Room W12-140, 1200 New Jersey Avenue, SE., Washington, DC 20590-0001. Persons wishing to receive confirmation of receipt of their written submission should include a self-addressed stamped postcard.

• Hand Delivery: Deliver comments to Docket Operations in Room W12-140 on the ground floor of the West Building at 1200 New Jersey Avenue, SE., Washington DC, between 9 a.m. and 5 p.m., Monday through Friday, except Federal holidays.

• Facsimile: Fax comments to the docket operations personnel at 202-493-2251.

Privacy: We will post all comments that we receive, without change, at http://www.regulations.gov, including any personal information that you provide. Using the search function of the docket website, anyone can find and read the electronic form of all comments in any of our dockets, including the name of the individual sending the comment or signing the comment on behalf of an association, business, labor union, or other entity or organization. You may review the DOT's complete Privacy Act Statement in the Federal Register at 65 FR 19477-78 (April 11, 2000), or you may find it at http://docketsinfo.dot.gov.

Reviewing the docket: To read background documents or comments received, go to http://www.regulations.gov at any time and follow the online instructions for accessing the docket; or go to Docket Operations in Room W12-140 on the ground floor of the West Building at 1200 New Jersey Avenue, SE., Washington, DC, between 9 a.m. and 5 p.m., Monday through Friday, except Federal holidays.

FOR FURTHER INFORMATION CONTACT: Gerry Shakley, System Operations Services, Air Traffic Organization; telephone—(202) 267-9424; e-mail—gerry.shakley@faa.gov.

SUPPLEMENTARY INFORMATION:

I. Background

As a result of the limited capacity of LaGuardia's two-runway configuration, the airport cannot accommodate the number of scheduled flights that airlines would like to operate there without causing significant congestion-related delays. This circumstance long ago led the FAA to limit the number of scheduled arrivals and departures at LaGuardia during the peak hours of demand.¹ The FAA ultimately relied on the High Density Rule ²—its initial mechanism to control congestion at LaGuardia—for nearly 40 years. The High Density Rule limited the number of scheduled operations at the airport to 62 per hour.

¹ 33 FR 17896, 17898 (Dec. 3, 1968); 34 FR 2603 (Feb. 26, 1969).

² 14 CFR part 93, subpart K.

In a statute enacted in April 2000, Congress began to phase out the High Density Rule at LaGuardia and other airports.³ Before fully extinguishing the High Density Rule at LaGuardia on January 1, 2007, the statute immediately authorized a number of exemptions from the High Density Rule for specific types of scheduled operations.⁴ Demand for exemptions to operate scheduled service at LaGuardia soared. By November 2000, the debilitating delays that resulted from the surging demand required the FAA to roll back and cap the number of scheduled operations at LaGuardia.⁵ The FAA did not roll back the scheduled operations to the number that airlines conducted before the surge, instead capping the operations at a more elevated total of 75 hourly departures and arrivals.

³ 49 U.S.C. 41715(a)(2).

⁴ 49 U.S.C. 41716.

⁵ 65 FR 69126, 69127-28 (Nov. 15, 2000).

In the ensuing years, the FAA examined and proposed various alternatives to the High Density Rule in an effort to control congestion at LaGuardia.⁶ When it became apparent that the FAA would not have a replacement rule in place before the High Density Rule expired at LaGuardia, and recognizing that LaGuardia is prone to overscheduling, the FAA proposed and finalized an interim Order that capped the number of operations at the airport until the FAA could finalize a rule.⁷ The interim Order, which is the subject of this proposed amendment, retained the cap of 75 hourly scheduled operations that originally took effect in November 2000.

⁶ 71 FR 51,360 (Aug. 29, 2006) (Notice of Proposed Rulemaking); 73 FR 20,846 (April 17, 2008) (Supplemental Notice of Proposed Rulemaking).

⁷ 71 FR 77,854 (Dec. 27, 2006). The FAA previously amended the original order in November 2007 (72 FR 63,224) and August 2008 (73 FR 48,428).

The FAA published a final rule with respect to LaGuardia on October 10, 2008.⁸ As a result of the continued and aggravated congestion-related delays at LaGuardia, the rule, in part, reduced the hourly cap on scheduled operations at LaGuardia. In this respect, the rule specifically identified a reduced cap of 71 hourly scheduled operations at LaGuardia from 6 a.m. until 9:59 p.m., Eastern Time, effective March 8, 2009.⁹ This number is substantially higher than the 62 hourly scheduled operations permitted under the High Density Rule.

⁸ 73 FR 60,574.

⁹ Id. at 60,576, 60,599 (to be codified at 14 CFR 93.37(b)).

On December 8, 2008, the United States Court of Appeals for the District of Columbia Circuit issued an order staying the effectiveness of the LaGuardia final rule, pending the outcome of litigation over disputed elements of the final rule.¹⁰ The FAA is now proposing this amendment to the LaGuardia Order to reduce scheduled operations to an average of 71 hourly departures and arrivals should carriers currently allocated operating authorizations under the Order choose to voluntarily reduce operations.

¹⁰ Order Granting Motions for Stay at 1, Port Auth. of New York & New Jersey v. Fed. Aviation Admin., No. 08-1329 (D.C. Cir. Dec. 8, 2008) (per curiam).

II. Proposed Amendment

A. Authority

The FAA's authority to limit the number of operations at congested airports is an essential component of the FAA's statutory responsibilities. The FAA holds broad authority under 49 U.S.C. 40103(b) to regulate the use of the navigable airspace of the United States. This provision authorizes the FAA to develop plans and policy for the use of the navigable airspace and, by order or rule, to regulate the use of the airspace as necessary to ensure its efficient use.

The FAA originally issued the Order to take effect on the expiration of the High Density Rule on January 1, 2007. The FAA intended the Order to serve as a temporary bridge to a final rule that would manage congestion at the airport over a longer term. As a result, the Order initially grandfathered the previously conducted operations at the previous hourly rate with few changes and few administrative constraints.

As the FAA continued to work toward a final rule to replace the Order, it became apparent at various junctures that amendments to the order were necessary in the interest of operational efficiency. The FAA has amended the Order, for example, to facilitate the transfer of operating authority among affiliated and regional carriers for operational need and to align the number of unscheduled operations with such operators' historical usage of LaGuardia.¹¹

¹¹ 72 FR 63,224 (Nov. 8, 2007); 73 FR 48,428 (Aug. 19, 2008).

B. Proposal

The FAA believes that the Order's present hourly cap on scheduled operations at LaGuardia is too high. According to the Bureau of Transportation Statistics, through October 31 of calendar year 2008, LaGuardia ranked last among the 32 major U.S. airports in on-time arrival performance, with an on-time arrival rate of 61.64%. LaGuardia also ranked last in this category over the same period in calendar year 2007. The airport fared little better in the category of on-time departure performance, in which LaGuardia, at 74.37 %, ranked 28th out of 32 over the first ten months of calendar year 2008.

In relation to the final rule that is currently stayed, MITRE Corporation's Center for Advanced Aviation System Development modeled the effect of reducing the hourly cap on scheduled operations at LaGuardia from 75 to 71. The MITRE queuing model reflected that the reduction could generate an average delay savings of 41%.¹² The FAA calculated the resulting annual benefit from this delay reduction at LaGuardia to be $178 million.¹³

¹² Congestion Management Rule for New York LaGuardia Airport, Docket FAA-2006-25709, Document 161 at 29 (Sept. 10, 2008) (Final Regulatory Evaluation).

¹³ Id. at 30 & n.9.

In order to capture some or all of these delay reduction and economic benefits while the Order remains in effect, the FAA now proposes to accept, on a strictly voluntary basis, a limited number of targeted flight reductions from the carriers now conducting scheduled service at LaGuardia. We anticipate that any voluntary flight reductions under this proposal would take effect no later than April 19, 2009, although we will entertain offers to reduce scheduled operations after that date.

The FAA intends to amend the Order to change the hourly cap for scheduled operations at the airport to 71 during the peak hours of 6 a.m. until 9:59 p.m., Eastern Time. If the flight reductions help the FAA in attaining its hourly target, the FAA intends to retire those operating authorizations for the balance of the Order.¹⁴ If the final rule published on October 10, 2008, and currently stayed pending the outcome of on-going litigation ultimately goes into effect, then consistent with that rule, the FAA will use the carriers' base of operations during the week of September 28, 2008, as the basis for any flight reductions called for in the rule.

¹⁴ In a separate action, the FAA is extending the Order's expiration until 11:59 p.m., Eastern Time, on October 24, 2009. Further extensions or revisions to the Order may prove necessary.

Although carriers can voluntarily relinquish more operating authorizations than are necessary to achieve an average of 71 hourly operations, the FAA intends to treat these returns in the same manner as operating authorizations returned to the FAA under the usage provisions of the Order. Accordingly, the FAA may elect to reallocate any operating authorization that a carrier relinquishes in excess of the number needed to achieve the average hourly target of 71. The FAA will notify a carrier if any operating authorization it is offering to relinquish could be subject to reallocation under this principle. A carrier's identification of operating authorizations for voluntary reduction may not be contingent on specific flight reductions made by other carriers.

The Order will continue to contain a minimum usage requirement and the associated principles for reallocation in paragraphs six and seven. This minimum usage requirement will continue to apply to all operating authorizations that are not retired under this proposal.

This proposal to amend the hourly cap on scheduled operations at LaGuardia to 71 would result in a cap that exceeds the cap that existed under the High Density Rule. Just recently, the FAA issued a Letter of Intent to provide AIP funding for port surface improvements at JFK International Airport. In addition, the FAA has aggressively pursued implementing 77 recommended operational improvements at the three New York City Metropolitan area airports. The FAA intends to continue its aggressive pursuit of operational improvements at LaGuardia and at the other New York-area airports, with a goal of increasing operational efficiency across the region.

If a carrier wishes to offer a voluntary reduction in scheduled operations under this proposal, an authorized representative of the carrier should contact the individual identified in the “For More Information Contact” section of this document. Please initiate such contact on or before January 2, 2009.

III. Request for Comments

The FAA invites all interested persons to submit written comments on this proposal by filing their written views in Docket FAA-2006-25755 on or before January 5, 2009.

Issued in Washington, DC, on December 19, 2008.
Rebecca B. Macpherson,
Assistant Chief Counsel for Regulations, Federal Aviation Administration.

[FR Doc. E8-30703 Filed 12-22-08; 4:15 pm]

BILLING CODE 4910-13-P